DEPARTMENT OF THE INTERIOR

Bureau of Land Management

[NM-010-1430-ER/G010-G0-0252]

Emergency Road Closure, Sandoval County, New Mexico

AGENCY: Bureau of Land Management, Interior.

ACTION: Road closure of access.

SUMMARY: Notice is hereby given that effective March 16, 2000, a road located within the NW¼ SW¼ of section 3, and continues in a southwesterly direction to SW¼ NW¼ section 9, T. 20 N., R. 1 W., NMPM, is closed to all forms of access except as specifically authorized by the Bureau of Land Management. The closed area is commonly known as the Sawmill Area south of Cuba. The purpose of this road closure is to prevent unnecessary degradation of resources, undue environmental damage and to ensure resource protection on public lands.

The emergency access closure is in accordance with the provisions of 43 CFR 8364.1. This designation remains in effect until further notice.

FOR FURTHER INFORMATION CONTACT: Joe Jaramillo, Realty Specialist at Bureau of Land Management, Albuquerque Field Office, 435 Montano NE, Albuquerque, New Mexico 87107, (505) 761-8779.

Dated: February 28, 2000.
S.W. Anderson,
Assistant Field Manager, Division of Lands & Minerals.

[FR Doc. 00-6528 Filed 3-15-00; 8:45 am]

BILLING CODE 4310-AG-M